INTERNATIONAL TRADE COMMISSION

[Investigation No. 332-540]

Digital Trade in the U.S. and Global Economies, Part 2; Scheduling of an Additional Public Hearing

AGENCY: United States International Trade Commission.

ACTION: Scheduling of additional public hearing in Moffett Field, CA.

SUMMARY: The Commission has scheduled a public hearing in investigation No. 332-540, Digital Trade in the U.S. and Global Economies, Part 2 at the NASA Ames Research Center in Moffett Field, California beginning at 9:30 a.m. on Wednesday, September 25, 2013.

DATES: September 12, 2013: Deadline for filing requests to appear at the public hearing.

September 18, 2013: Deadline for filing pre-hearing briefs and statements.

September 25, 2013: Public hearing.

October 3, 2013: Deadline for filing post-hearing briefs and statements.

March 21, 2014: Deadline for filing all other written submissions.

July 14, 2014: Transmittal of Commission report to the Senate Committee on Finance.

ADDRESSES: All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader James Stamps (202-205-3227 or james.stamps@usitc.gov) or Deputy Project Leader David Coffin (202-205-2232 or david.coffin@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: The additional hearing relates to the second of two reports that the Commission is preparing on the role of digital trade in the U.S. and global economies at the request of the U.S. Senate Committee on Finance. The Commission held a public hearing in connection with both reports in Washington, DC, on March 7, 2013. The first report, Digital Trade in the U.S. and Global Economies, Part 1, Investigation No. 332-531, will be available to the public on August 15, 2013, on the Commission's Web site (http://www.usitc.gov). As requested by the Committee, the Commission will base its report in this second investigation on available information, including a survey of U.S. firms in selected industries particularly involved in digital trade and the application of approaches outlined in the first report. To the extent practicable, this second report will:

• estimate the value of U.S. digital trade and the potential growth of this trade (with the potential growth estimates to highlight any key trends and discuss their implications for U.S. businesses and employment);

• provide insight into the broader linkages and contributions of digital trade to the U.S. economy (such linkages and contributions may include effects on consumer welfare, output, productivity, innovation, business practices, and job creation);

• present case studies that examine the importance of digital trade to selected U.S. industries that use or produce such goods and services, with some of the case studies to highlight, if possible, the impact of digital trade on small and medium-sized enterprises; and

• examine the effect of notable barriers and impediments to digital trade on selected industries and the broader U.S. economy.

The Commission expects to transmit this second report to the Committee by July 14, 2014. For the purposes of this investigation, the Commission is defining “digital trade” to encompass commerce in products and services delivered via the Internet as well as commerce in products and services that is facilitated by the use of the Internet and Internet-based technologies. Commerce includes both U.S. domestic economic activity as well as international trade.

Public Hearing: The additional hearing will be held at the NASA Ames Conference Center/NASA Research Park, Building 152, Room 171, 200 Dailey Road, Moffett Field, CA, beginning at 9:30 a.m. on Wednesday, September 25, 2013. Requests to appear at the public hearing should be filed with the Secretary, no later than 5:15 p.m., September 12, 2013, in accordance with the requirements in the “Requests to Appear” section below. All pre-hearing briefs and statements should be filed not later than 5:15 p.m., September 18, 2013; and all post-hearing briefs and statements responding to matters raised at the hearing should be filed not later than 5:15 p.m., October 3, 2013. In the event that, as of the close of business on September 12, 2013, no witnesses are scheduled to appear at the hearing, the hearing will be canceled. Any person interested in attending the hearing as an observer or nonparticipant should contact the Office of the Secretary at 202-205-2000 after September 12, 2013, for information concerning whether the hearing will be held.

This field hearing is being planned in conjunction with a field hearing to be held on September 26, 2013 for Inv. No. 332-541, Trade Barriers that U.S. Small and Medium-sized Enterprises Perceive as Affecting Exports to the European Union. Interested persons who wish to present consolidated statements and testimony relevant to both investigations are invited to do so on Wednesday, September 25, 2013.

Requests To Appear: Requests to appear at the Moffett Field, CA hearing may be in the form of a letter, which should be on company or other appropriate stationery. Requests should identify the name, title, and company or other organizational affiliation (if any), address, telephone number, email address, and industry or main line of business of the company, if any, of the person signing the request letter and of the persons who plan to appear at one or both hearings. Requests to appear may be made by mail or delivered in person to the Commission's Office of the Secretary (see ADDRESSES), or may be filed by email sent to digitaltrade@usitc.gov. The Commission does not accept requests filed by fax.

Written Submissions: In lieu of or in addition to participating in the hearing, interested parties are invited to submit written statements concerning this investigation. Such submissions should be addressed to the Secretary, and should be received not later than 5:15 p.m., March 21, 2014. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In its request letter, the Committee stated that it intends to make the Commission's reports available to the public in their entirety, and asked that the Commission not include any confidential business information or national security classified information in the reports that the Commission sends to the Committee. Any confidential business information received by the Commission in this investigation and used in preparing this report will not be published in a manner that would reveal the operations of the firm supplying the information.

By order of the Commission.
Issued: August 15, 2013
Lisa R. Barton,
Acting Secretary to the Commission.

[FR Doc. 2013-20387 Filed 8-20-13; 8:45 am]

BILLING CODE 7020-02-P